DEPARTMENT OF STATE

[Public Notice: 10493]

Determination Under Section 7070(c)(1) of the Department of State, Foreign Operations, and Related Programs Appropriations Act, 2018 Regarding the Government of Nauru

Pursuant to section 7070(c)(1) of the Department of State, Foreign Operations, and Related Programs Appropriations Act, 2018 (Div. K, Pub. L. 115-141), I hereby determine, by delegation from the Secretary of State, that the Government of Nauru has recognized the independence of, or has established diplomatic relations with, the Georgian territories of Abkhazia and Tskhinvali Region/South Ossetia.

This determination shall be published in the Federal Register and on the Department of State website and, along with the accompanying Memorandum of Justification, shall be reported to Congress.

Dated: July 30, 2018.
John J. Sullivan,
Deputy Secretary of State.

[FR Doc. 2018-17109 Filed 8-9-18; 8:45 am]

BILLING CODE 4710-30-P